FEDERAL COMMUNICATIONS COMMISSION

47 CFR Part 68

[CC Docket No. 99-216; FCC 00-400]

2000 Biennial Regulatory Review of Adopting Technical Criteria and Approving Terminal Equipment

AGENCY: Federal Communications Commission.

ACTION: Final rule; correction.

SUMMARY: The Commission published a document in the Federal Register of January 24, 2001, (66 FR 7579) which promulgates new rules to privatize the process by which technical criteria are established for customer premises equipment (CPE or terminal equipment) and for the approval of such equipment to demonstrate compliance with the relevant technical criteria. The document should have stated that certain rules contained information collection requirements that require approval by the Office of Management and Budget (“OMB”). This document corrects the effective date of the January 24, 2001 final rule.

FOR FURTHER INFORMATION CONTACT: Susan Magnotti, 202/418-0871, fax 202/418-2345, TTY 202/418-0484, smagnott@fcc.gov, Network Services Division, Common Carrier Bureau, or Dennis Johnson, 202/418-0809, fax 202/418-2345, TTY 202/418-0484, dcjohnso@fcc.gov, Network Services Division, Common Carrier Bureau.

SUPPLEMENTARY INFORMATION: The Federal Communications Commission published a document adopting, inter alia, rule sections 68.106 through 68.610, which privatize and streamline part 68 terminal equipment procedures, in the Federal Register of January 24, 2001, (66 FR 7579). In FR Doc. 01-1034, published January 24, 2001 (66 FR 7579), make the following correction:

Correction

1. On page 7579, in the third column, correct the Dates caption to read as follows:

DATES: Sections 68.106 through 68.610 contain information collection requirements that have not been approved by the Office of Management and Budget (“OMB”). The FCC will publish a document in the Federal Register announcing the effective date of these sections.

Federal Communications Commission.
Magalie Roman Salas,
Secretary.

[FR Doc. 01-20438 Filed 8-14-01; 8:45 am]

BILLING CODE 6712-01-P